DEPARTMENT OF HEALTH AND HUMAN SERVICES

Health Resources and Services Administration

Meeting of the National Advisory Council on Nurse Education and Practice

AGENCY: Health Resources and Services Administration (HRSA), Department of Health and Human Services (HHS).

ACTION: Notice; correction.

SUMMARY: The National Advisory Council on Nurse Education and Practice (NACNEP) meeting scheduled for Wednesday, December 2, 2020, from 8:30 a.m. to 5:00 p.m. and Thursday, December 3, 2020, from 8:30 a.m. to 2:00 p.m. Eastern Time has changed its format. The meeting will now be a webinar and conference call only. The webinar link, conference dial-in number, meeting materials, and updates will be available on the NACNEP website: https://www.hrsa.gov/advisory-committees/nursing/meetings.html.

FOR FURTHER INFORMATION CONTACT: Camillus Ezeike, Ph.D., JD, LLM, RN, PMP, Designated Federal Officer, NACNEP, Bureau of Health Workforce, Division of Nursing and Public Health, HRSA, 5600 Fishers Lane, Rockville, Maryland 20857; 301-443-2866; or BHWNACNEP@hrsa.gov.

Correction: [This meeting will be a two day webinar and conference call only, rather than a two day in-person meeting as previously announced.]

Maria G. Button,
Director, Executive Secretariat.

[FR Doc. 2020-22208 Filed 10-6-20; 8:45 am]

BILLING CODE 4165-15-P